Title 3—

The President

Executive Order 13738 of August 23, 2016

Amendment to Executive Order 13673

By the authority vested in me as President by the Constitution and the laws of the United States of America, including 40 U.S.C. 121, and in order to promote economy and efficiency in procurement by contracting with responsible sources who comply with labor laws, it is hereby ordered as follows:

Section 1. Amendment to Executive Order 13673. Executive Order 13673 of July 31, 2014 (Fair Pay and Safe Workplaces), is amended as follows:

(1) in subsection 2(a)(iv)(A), by inserting, after the word “disclose,” the following: “to the entity designated by a final rule amending the Federal Acquisition Regulation under subsection 4(a)”;

(2) in subsection 2(a)(iv)(B), by striking “the information submitted by the subcontractor pursuant to subparagraph (A) of this paragraph” and replacing in lieu thereof the following: “the advice provided by the entity designated by a final rule amending the Federal Acquisition Regulation under subsection 4(a), or the information submitted to that entity”;

(3) in subsection 2(a)(v), by striking “to the contractor” and inserting in lieu thereof the following: “to an entity designated by a final rule amending the Federal Acquisition Regulation under subsection 4(a)”; and

(4) in subsection 4(c)(i), by striking “and (ii)”.

Sec. 2. General Provisions. (a) Nothing in this order shall be construed to impair or otherwise affect:

(i) the authority granted by law to a department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

Sec. 3. Effective Date. This order shall become effective immediately and shall apply to all solicitations for contracts as set forth in any final rule issued by the Federal Acquisition Regulatory Council under this order and Executive Order 13673 of July 31, 2014.

THE WHITE HOUSE,

August 23, 2016.

[FR Doc. 2016-20713

Filed 8-25-16; 8:45 am]

Billing code 3295-F6-P